DEPARTMENT OF HEALTH AND HUMAN SERVICES

Food and Drug Administration

21 CFR Part 73

[Docket No. FDA-2007-C-0456] (formerly Docket No. 2007C-0245)

Listing of Color Additives Exempt From Certification; Paracoccus Pigment; Confirmation of Effective Date

AGENCY: Food and Drug Administration, HHS.

ACTION: Final rule; confirmation of effective date.

SUMMARY: The Food and Drug Administration (FDA) is confirming the effective date of December 17, 2009, for the final rule that appeared in the Federal Register of November 16, 2009. The final rule amended the color additive regulations to provide for the safe use of paracoccus pigment as a color additive in the feed of salmonid fish to enhance the color of their flesh.

DATES: The effective date for the final rule that published in the Federal Register on November 16, 2009 (74 FR 58843) is confirmed as December 17, 2009.

FOR FURTHER INFORMATION CONTACT: Mical E. Honigfort, Center for Food Safety and Applied Nutrition (HFS-265), Food and Drug Administration, 5100 Paint Branch Pkwy., College Park, MD 20740-3835, 301-436-1278.

SUPPLEMENTARY INFORMATION: In the Federal Register of November 16, 2009 (74 FR 58843), FDA amended the color additive regulations to add 21 CFR 73.352 to provide for the safe use of paracoccus pigment as a color additive in the feed of salmonid fish to enhance the color of their flesh.

FDA gave interested persons until December 16, 2009, to file objections or requests for a hearing. The agency received no objections or requests for a hearing on the final rule. Therefore, FDA finds that the effective date of the final rule that published in the Federal Register of November 16, 2009, should be confirmed.

List of Subjects in 21 CFR Part 73

Color additives, Cosmetics, Drugs, Medical devices.

Therefore, under the Federal Food, Drug, and Cosmetic Act (21 U.S.C. 321, 341, 342, 343, 348, 351, 352, 355, 361, 362, 371, 379e) and under authority delegated to the Commissioner of Food and Drugs, and redelegated to the Director, Office of Food Additive Safety, notice is given that no objections or requests for a hearing were filed in response to the November 16, 2009, final rule. Accordingly, the amendments issued thereby became effective December 17, 2009.

Dated: January 22, 2010.
Mitchell A. Cheeseman,
Acting Director, Office of Food Additive Safety, Center for Food Safety and Applied Nutrition.

[FR Doc. 2010-2521 Filed 2-4-10; 8:45 am]

BILLING CODE 4160-01-S